DEPARTMENT OF ENERGY

Federal Energy Regulatory Commission

[Project No. 14430-000]

Monroe Hydro, LLC; Notice of Intent to File License Application, Filing of Pre-Application Document, and Approving Use of the Traditional Licensing Process

a. Type of Filing: Notice of Intent to File License Application and Request to Use the Traditional Licensing Process.

b. Project No.: 14430-000

c. Date Filed: April 2, 2013

d. Submitted By: Monroe Hydro, LLC

e. Name of Project: Monroe Drop Hydroelectric Project

f. Location: On the western side of the Bureau of Reclamation's North Unit Irrigation District Main Canal, in Jefferson County, Oregon. The project occupies 2.1 acres of United States lands administered by USDA Forest Service.

g. Filed Pursuant to: 18 CFR 5.3 of the Commission's regulations

h. Potential Applicant Contact: Gia Schneider, Natel Energy, 2175 Monarch Street, Alameda, CA 94501; (510) 342-5269; email -gia@natelenergy.com.

i. FERC Contact: Adam Beeco at (202) 502-8655; or email at adam.beeco@ferc.gov.

j. Monroe Hydro filed its request to use the Traditional Licensing Process on April 2, 2013. Monroe Hydro provided public notice of its request on June 5, 2013. In a letter dated July 16, 2013, the Director of the Division of Hydropower Licensing approved Monroe Hydro's request to use the Traditional Licensing Process.

k. With this notice, we are initiating informal consultation with: (a) the U.S. Fish and Wildlife Service and/or NOAA Fisheries under section 7 of the Endangered Species Act and the joint agency regulations thereunder at 50 CFR, Part 402; (b) NOAA Fisheries under section 305(b) of the Magnuson-Stevens Fishery Conservation and Management Act and implementing regulations at 50 CFR 600.920; and (c) the Oregon State Historic Preservation Officer, as required by section 106, National Historical Preservation Act, and the implementing regulations of the Advisory Council on Historic Preservation at 36 CFR 800.2.

l. With this notice, we are designating Monroe Hydro as the Commission's non-federal representative for carrying out informal consultation, pursuant to section 7 of the Endangered Species Act and section 106 of the National Historic Preservation Act.

m. Monroe Hydro filed a Pre-Application Document (PAD) and a proposed process plan and schedule with the Commission, pursuant to 18 CFR 5.6 of the Commission's regulations.

n. A copy of the PAD is available for review at the Commission in the Public Reference Room or may be viewed on the Commission's Web site (http://www.ferc.gov), using the “eLibrary” link. Enter the docket number, excluding the last three digits in the docket number field to access the document. For assistance, contact FERC Online Support at FERCONlineSupport@ferc.gov or toll free at 1-866-208-3676, or for TTY, (202) 502-8659. A copy is also available for inspection and reproduction at the address in paragraph h.

o. Register online at http://www.ferc.gov/docs-filing/esubscription.asp to be notified via email of new filing and issuances related to this or other pending projects. For assistance, contact FERC Online Support.

Dated: July 16, 2013.
Kimberly D. Bose,
Secretary.

[FR Doc. 2013-17590 Filed 7-22-13; 8:45 am]

BILLING CODE 6717-01-P